DEPARTMENT OF ENERGY

Federal Energy Regulatory Commission

Notice of Settlement Agreement

| Project No.
Eagle Creek Hydro Power, LLC, Eagle Creek Water Resources, LLC, Eagle Creek Land Resources, LLC | 10482-122
Eagle Creek Hydro Power, LLC, Eagle Creek Water Resources, LLC, Eagle Creek Land Resources, LLC | 10481-069
Eagle Creek Hydro Power, LLC, Eagle Creek Water Resources, LLC, Eagle Creek Land Resources, LLC | 9690-115

Take notice that the following settlement agreement has been filed with the Commission and is available for public inspection.

a. Type of Application: Settlement Agreement.

b. Project Nos.: P-10482-122; P-10481-069; and P-9690-115.

c. Date Filed: May 28, 2021.

d. Applicants: Eagle Creek Hydro Power, LLC; Eagle Creek Water Resources, LLC; and Eagle Creek Land Resources, LLC (collectively referred to as Eagle Creek).

e. Name of Projects: Swinging Bridge Hydroelectric Project (P-10482), Mongaup Falls Hydroelectric Project (P-10481), and Rio Hydroelectric Project (P-9690).

f. Location: The Swinging Bridge Hydroelectric Project is located on the Mongaup River and Black Lake Creek in Sullivan County, New York. The Mongaup Falls Hydroelectric Project is located on the Mongaup River and Black Brook in Sullivan County, New York. The Rio Hydroelectric Project is located on the Mongaup River in Sullivan and Orange Counties, New York. The projects do not occupy any federal land.

g. Filed Pursuant to: Rule 602 of the Commission's Rules of Practice and Procedure, 18 CFR 385.602.

h. Applicant Contact: Jody J. Smet, Vice President Regulatory Affairs, 2 Bethesda Metro Center, Suite 1330, Bethesda, MD 20814; Telephone (804) 739-0654, email—jody.smet@eaglecreekre.com.

i. FERC Contact: Nicholas Ettema, (312) 596-4447 or nicholas.ettema@ferc.gov.

j. Deadline for filing comments: Comments are due within 20 days of the notice. Reply comments due within 30 days of the notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number (e.g., P-10482).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Eagle Creek filed an Offer of Settlement (Settlement Agreement) on behalf of itself, the New York State Department of Environmental Conservation, U.S. Fish and Wildlife Service, National Park Service, U.S.G.S Office of the Delaware River Master, American Whitewater, Appalachian Mountain Club, Kayak and Canoe Club of New York, Chapin Estate Homeowners Association, Homeowners of Toronto, Inc., Iroquois Hunting and Fishing Club, Inc., Swinging Bridge Property Owners Association, Trout Unlimited—New York State Council, and the Woodstone Lake Development, LLC. The Settlement Agreement includes protection, mitigation, and enhancement measures addressing project operation, minimum flows, dissolved oxygen, Delaware River dwarf wedgemussel, downstream fish passage, upstream passage of American eel, and management plans for shorelines, recreation, whitewater flows, bald eagles, northern long-eared bat, invasive plants, and historic properties. Eagle Creek requests that the measures in the Settlement Agreement be incorporated as license conditions, without modification, in any license issued for each project. The signatories to the Settlement Agreement also request a 50-year license term for each project.

l. A copy of the Settlement Agreement is available for review on the Commission's website at http://www.ferc.gov using the “eLibrary” link. Enter the docket number, excluding the last three digits, in the docket number field to access the document. For assistance, contact FERC Online Support.

Register online at http://www.ferc.gov/docs-filing/esubscription.asp to be notified via email of new filings and issuances related to these projects or other pending projects. For assistance, contact FERC Online Support.

Dated: June 4, 2021.
Kimberly D. Bose,
Secretary.

[FR Doc. 2021-12152 Filed 6-9-21; 8:45 am]

BILLING CODE 6717-01-P